POSTAL SERVICE

Board of Governors; Sunshine Act Meeting

Board Votes To Close December 11, 2012 Meeting

At its meeting on November 14, 2012, members of the Board of Governors of the United States Postal Service met and voted unanimously to close to public observation its meeting on December 11, 2012, via teleconference.

Matters To Be Considered

1. Strategic Issues.

2. Financial Matters.

3. Pricing.

4. Personnel Matters and Compensation Issues.

5. Governors Executive Session—Discussion of prior agenda items and Board Governance.

General Counsel Certification

The General Counsel of the United States Postal Service has certified that the meeting was properly closed under the Government in the Sunshine Act.

Contact Person for More Information

Requests for information about the meeting should be addressed to the Secretary of the Board, Julie S. Moore, at (202) 268-4800.

Julie S. Moore,
Secretary.

[FR Doc. 2012-29432 Filed 11-30-12; 4:15 pm]

BILLING CODE 7710-12-P